ENVIRONMENTAL PROTECTION AGENCY

[FRL-6953-8]

Clean Water Act Section 303(d): Availability of Proposed Determinations That Total Maximum Daily Loads (TMDLs) Are Not Needed

AGENCY: Environmental Protection Agency (EPA).

ACTION: Notice of availability.

SUMMARY: This notice announces the availability for comment of EPA's determination that TMDLs are not needed for 26 waterbody/pollutant combinations in the Mermentau and Vermilion/Teche River Basins because new data and information show that water quality standards are being met. This proposed action would result in the removal of 26 waterbody/pollutant combinations from the Louisiana 303(d) list. EPA prepared the proposed determinations in response to a court order dated October 1, 1999, in the lawsuit Sierra Club, et al. v. Clifford et al., No. 96-0527, (E.D. La.). Under this court order, EPA is required to prepare TMDLs when needed for waters on the Louisiana 1998 section 303(d) list by December 31, 2007. The court order also requires EPA to add or delete waters to the schedule as new data confirms that waters are or are not meeting water quality standards.

DATES: Comments on the 26 proposed determinations that TMDLs are not needed must be submitted in writing to EPA on or before April 18, 2001.

ADDRESSES: Comments on the proposed determinations should be sent to Ellen Caldwell, Environmental Protection Specialist, Water Quality Protection Division, U.S. Environmental Protection Agency Region 6, 1445 Ross Ave., Dallas, TX 75202-2733. For further information, contact Ellen Caldwell at (214) 665-7513. The administrative record file for the proposed determinations is available for public inspection at this address as well. Documents from the administrative record file may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. Discussion of the court's order may be found at 65 FR 54032 (September 6, 2000).

EPA Seeks Comments on 26 Proposed Determinations That TMDLs Are Not Needed
Waterbody | Waterbody description | Suspected pollutant | Reason for delisting
050101 | Bayou Des Cannes—Headwaters to Mermentau River | Oil & Grease | Assessment of new data and information shows it is meeting WQS.
050103 | Bayou Mallet | Oil & Grease | Assessment of new data and information shows it is meeting WQS.
050201 | Bayou Plaquemine Brule, Headwaters to Bayou Des Cannes | Oil & Grease | Assessment of new data and information shows it is meeting WQS.
050901 | Mermentau River Basin, Coastal | Oil & Grease | Assessment of new data and information shows it is meeting WQS.
060802 | Vermilion River—From New Flanders Ambassador Caffery Bridge | Oil & Grease | Assessment of new data and information shows it is meeting WQS.
060904 | Vermilion River B890 Basin, New Iberia Southern Drainage Canal | Oil & Grease | Assessment of new data and information shows it is meeting WQS.
060907 | Franklin Canal | Oil & Grease | Assessment of new data and information shows it is meeting WQS.
061101 | Bayou Petite Anse | Oil & Grease | Assessment of new data and information shows it is meeting WQS.
060804 | Intracoastal Waterway | Oil & Grease | Assessment of new data and information shows it is meeting WQS.
060901 | Bayou Petite Anse | Oil & Grease | Assessment of new data and information shows it is meeting WQS.
050402 | Lake Arthur and Lower Mermentau | Oil & Grease | Assessment of new data and information shows it is meeting WQS.
050602 | Intracoastal Waterway | Oil & Grease | Assessment of new data and information shows it is meeting WQS.
050701 | Grand Lake | Oil & Grease | Assessment of new data and information shows it is meeting WQS.
050702 | Intracoastal Waterway | Oil & Grease | Assessment of new data and information shows it is meeting WQS.
050703 | White Lake | Oil & Grease | Assessment of new data and information shows it is meeting WQS.
060205 | Bayou Teche—Headwaters at Bayou Courtableau to I-10 | Oil & Grease | Assessment of new data and information shows it is meeting WQS.
060212 | Chatlin Lake Canal and Bayou DuLac | Oil & Grease | Assessment of new data and information shows it is meeting WQS.
060701 | Tete Bayou | Oil & Grease | Assessment of new data and information shows it is meeting WQS.
060702 | Lake Fausse Point and Dauterive Lake | Oil & Grease | Assessment of new data and information shows it is meeting WQS.
060906 | Intracoastal Waterway | Oil & Grease | Assessment of new data and information shows it is meeting WQS.
060910 | Boston Canal and Associated Canals (Estuarine) | Oil & Grease | Assessment of new data and information shows it is Meeting WQS.
061103 | Freshwater Bayou Canal | Oil & Grease | Assessment of new data and information shows it is meeting WQS.
050501 | Bayou Que de Tortue Headwaters to Mermentau River | Oil & Grease | Assessment of new data and information shows it is meeting WQS.
060902 | Bayou Carlin (Delcambre Canal)—Lake Peigneur To Bayou Petite Anse | Oil & Grease | Assessment of new data and information shows it is meeting WQS.
060803 | Vermilion River Cutoff | Oil & Grease | Assessment of new data and information shows it is meeting WQS.
061102 | Intracoastal Waterway | Oil & Grease | Assessment of new data and information shows it is meeting WQS.

EPA requests that the public provide to EPA any water quality related data and information that may be relevant to the 26 proposed determinations that TMDLs are not needed. EPA will review all data and information submitted during the public comment period and revise the determinations where appropriate.

Dated: March 7, 2001.
Joan E. Brown,
Acting Director, Water Quality Protection Division, Region 6.

[FR Doc. 01-6680 Filed 3-16-01; 8:45 am]

BILLING CODE 6560-50-P